SMALL BUSINESS ADMINISTRATION

National Small Business Development Center Advisory Board; Public Meeting

The U.S. Small Business Administration National Small Business Development Center (SBDC) Advisory Board will be hosting a conference call to discuss such matters that may be presented by members, and the staff of the U.S. Small Business Administration. The conference call will be held on Tuesday, January 16, 2007 at 1 p.m. Eastern Standard Time.

The purpose of the meeting is to welcome new board member, discuss internal board matters such as the status of proposed new Board members, administrative issues, the Spring Meeting agenda, the Chair's Dialogue with the State Directors' aftermath, and the marketing of the SBDC Program.

Anyone wishing to make an oral presentation to the Board must contact Erika Fischer, Senior Program Analyst, U.S. Small Business Administration, Office of Small Business Development Centers, 409 3rd Street, SW., Washington, DC 20024-3212, telephone (202) 205-7045 or fax (202) 481-0681.

Matthew Teague,
Committee Management Officer.

[FR Doc. E6-22625 Filed 1-4-07; 8:45 am]

BILLING CODE 8025-01-P